DEPARTMENT OF THE INTERIOR

Fish and Wildlife Service

[FWS-R9-IA-2009-N176] [96300-1671-0000 FY09R4]

Conference of the Parties to the Convention on International Trade in Endangered Species of Wild Fauna and Flora (CITES); Fifteenth Regular Meeting; Provisional Agenda; Announcement of Public Meeting

AGENCY: Fish and Wildlife Service, Interior.

ACTION: Notice.

SUMMARY: The United States, as a Party to the Convention on International Trade in Endangered Species of Wild Fauna and Flora (CITES), will attend the fifteenth regular meeting of the Conference of the Parties to CITES (CoP15) in Doha, Qatar, March 13-25, 2010. Currently, the United States is developing its negotiating positions on proposed resolutions, decisions, and amendments to the CITES Appendices (species proposals), as well as other agenda items that have been submitted by other Party countries and the CITES Secretariat for consideration at CoP15. With this notice we announce the provisional agenda for CoP15, solicit your comments on the items on the provisional agenda, and announce a public meeting to discuss the items on the provisional agenda.

DATES: The public meeting will be held on December 2, 2009, at 1:30 p.m. In developing the U.S. negotiating positions on proposed resolutions, decisions, and species proposals, and other agenda items submitted by other Party countries and the CITES Secretariat for consideration at CoP15, we will consider written information and comments you submit if we receive them by January 4, 2010.

ADDRESSES:

Public Meeting

The public meeting will be held in the Sidney Yates Auditorium at the Department of the Interior at 18th and C Streets, NW, Washington, DC. Directions to the building can be obtained by contacting the Division of Management Authority (see FOR FURTHER INFORMATION CONTACT). For more information about the meeting, see “Announcement of Public Meeting” under SUPPLEMENTARY INFORMATION.

Comment Submission

Comments pertaining to proposed resolutions, decisions, and/or agenda items should be sent to the Division of Management Authority, U.S. Fish and Wildlife Service, 4401 North Fairfax Drive, Room 212, Arlington, VA 22203, or via e-mail at: cop15@fws.gov. Comments pertaining to species proposals should be sent to the Division of Scientific Authority, U.S. Fish and Wildlife Service, 4401 North Fairfax Drive, Room 110, Arlington, VA 22203, or via e-mail at: scientificauthority@fws.gov. Comments and materials received will be available for public inspection, by appointment, from 8 a.m. to 4 p.m., Monday through Friday, at either the Division of Management Authority or the Division of Scientific Authority.

FOR FURTHER INFORMATION CONTACT: For information pertaining to resolutions, decisions, and agenda items contact: Robert R. Gabel, Chief, Division of Management Authority (phone, 703-358-2095; e-mail, cop15@fws.gov). For information pertaining to species proposals contact: Dr. Rosemarie Gnam, Chief, Division of Scientific Authority (phone, 703-358-1708; e-mail, scientificauthority@fws.gov).

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's website at http://www.cites.org/eng/app/appendices.shtml. Currently, 175 countries, including the United States, are Parties to CITES. The Convention calls for biennial meetings of the Conference of the Parties to review its implementation, make provisions enabling the CITES Secretariat in Switzerland to carry out its functions, consider amendments to the lists of species in Appendices I and II, consider reports presented by the Secretariat, and make recommendations for the improved effectiveness of CITES. Any country that is a Party to CITES may propose amendments to Appendices I and II, and draft resolutions, decisions, and agenda items for consideration by all the Parties.

This is our third in a series of Federal Register notices that, together with an announced public meeting, provide you with an opportunity to participate in the development of the U.S. negotiating positions for CoP15. We published our first CoP15-related Federal Register notice on September 29, 2008 (73 FR 56605), in which we requested information and recommendations on species proposals and proposed resolutions, decisions, and agenda items for the United States to consider submitting for consideration at CoP15. We published our second such Federal Register notice on July 13, 2009 (74 FR 33460), in which we requested information and recommendations on species proposals, proposed resolutions, proposed decisions, and other agenda items that the United States was considering submitting for consideration at CoP15. You may obtain information on the above Federal Register notices from the following sources: for information on proposed resolutions, decisions, and agenda items, contact the Division of Management Authority at the address provided in ADDRESSES; for information on species proposals, contact the Division of Scientific Authority at the address provided in ADDRESSES. Our regulations governing this public process are found in 50 CFR 23.85-23.87.

In response to our first Federal Register notice, we received comments from WWF and TRAFFIC on transferring polar bear (Ursus maritimus) and narwhal (Monodon monoceros) from CITES Appendix II to Appendix I, and including walrus (Odobenus rosmarus) in Appendix II. Based on the purpose of the notice and the phrasing of the comments, we interpreted them as recommendations for the United States to consider proposals for these species and stated as much in our second Federal Register notice. We subsequently received a letter from WWF and TRAFFIC stating that we had misrepresented their comments. In their letter, dated August 12, 2009, WWF and TRAFFIC clarified that they have taken no position on these three species.

CoP15 is scheduled to be held in Doha, Qatar, March 13-25, 2010. On October 14, 2009, the United States submitted to the CITES Secretariat, for consideration at CoP15, its species proposals, proposed resolutions, proposed decisions, and other agenda items. These documents are available on our website at http://www.fws.gov/international/DMA_DSA/CITES/CITES_CoP15.html.

Announcement of Provisional Agenda for CoP15

The provisional agenda for CoP15 is currently available on the CITES Secretariat's website at http://www.cites.org/eng/cop/index.shtml. The working documents associated with the items on the provisional agenda, such as proposed resolutions, proposed decisions, and discussion documents, are also available on the Secretariat's website. To view the working document associated with a particular agenda item, access the provisional agenda at the above website, locate the particular agenda item, and click on the document link for that agenda item in the column entitled “Document.” Finally, the species proposals that will be considered at CoP15 are available on the Secretariat's website. Proposals for amendment of Appendices I and II can be accessed at the web address given above. We look forward to receiving your comments on the items on the provisional agenda.

Announcement of Public Meeting

We will hold a public meeting to discuss with you the items on the provisional agenda for CoP15. The public meeting will be held on the date specified in DATES at the address specified in ADDRESSES. You can obtain directions to the building by contacting the Division of Management Authority (see FOR FURTHER INFORMATION CONTACT). Please note that the Sidney Yates Auditorium is accessible to the handicapped and all persons planning to attend the meeting will be required to present photo identification when entering the building. Persons who plan to attend the meeting and who require interpretation for the hearing impaired must notify the Division of Management Authority by November 18, 2009.

Future Actions

Through an additional notice and website posting in advance of CoP15, we will inform you about tentative U.S. negotiating positions on proposed resolutions, proposed decisions, species proposals, and other agenda items that were submitted by other Party countries and the CITES Secretariat for consideration at CoP15.

Author

The primary author of this notice is Laura Noguchi, Division of Management Authority; under the authority of the U.S. Endangered Species Act of 1973, as amended (16 U.S.C. 1531 et seq.).

Daniel M. Ashe,
Acting Director, U.S. Fish and Wildlife Service

[FR Doc. E9-26619 Filed 11-3-09; 8:45 am]

BILLING CODE 4310-55-S